DEPARTMENT OF HOMELAND SECURITY

Federal Emergency Management Agency

[Docket ID FEMA-2016-0002; Internal Agency Docket No. FEMA-B-1645]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: August 26, 2016.
Roy E. Wright,
Deputy Associate Administrator for Insurance and Mitigation, Department of Homeland Security, Federal Emergency Management Agency.

State and county | Location and case No. | Chief executive officer of community | Community map repository | Online location of letter of map revision | Effective date of modification | Community No.
Alabama:
Etowah | City of Gadsden (16-04-2081P) | The Honorable Sherman Guyton, Mayor, City of Gadsden, 90 Broad Street, Gadsden, AL 35902 | City Hall, 90 Broad Street, Gadsden, AL 35902 | http://www.msc.fema.gov/lomc | Oct. 6, 2016 | 010080
Etowah | City of Rainbow City (16-04-2081P) | The Honorable Terry J. Calhoun, Mayor, City of Rainbow City, 3700 Rainbow Drive, Rainbow City, AL 35906 | City Hall, 3700 Rainbow Drive, Rainbow City, AL 35906 | http://www.msc.fema.gov/lomc | Oct. 6, 2016 | 010351
Etowah | Unincorporated areas of Etowah County (16-04-2081P) | The Honorable Lewis Fuller, President, Etowah County Commission, 800 Forrest Avenue, Suite 113, Gadsden, AL 35901 | Etowah County Courthouse, 800 Forrest Avenue, Suite 3, Gadsden, AL 35901 | http://www.msc.fema.gov/lomc | Oct. 6, 2016 | 010077
Jefferson | City of Trussville (15-04-A460P) | The Honorable Eugene Melton, Mayor, City of Trussville, 131 Main Street, Trussville, AL 35173 | City Hall, 131 Main Street, Trussville, AL 35173 | http://www.msc.fema.gov/lomc | Sep. 29, 2016 | 010133
Jefferson | Unincorporated areas of Jefferson County (15-04-A460P) | The Honorable James A. Stephens, Chairman, Jefferson County Commission, 716 Richard Arrington Jr. Boulevard North, Birmingham, AL 35203 | Jefferson County Land Development Department, 716 Richard Arrington Jr. Boulevard North, Birmingham, AL 35203 | http://www.msc.fema.gov/lomc | Sep. 29, 2016 | 010217
Mobile | City of Mobile (15-04-A099P) | The Honorable Sandy Stimpson, Mayor, City of Mobile, 205 Government Street, Mobile, AL 36602 | Engineering Department, 205 Government Street, Mobile, AL 36602 | http://www.msc.fema.gov/lomc | Oct. 27, 2016 | 015007
Shelby | City of Chelsea (16-04-3295P) | The Honorable Samuel E. Niven, Sr., Mayor, City of Chelsea, 11611 Chelsea Road, Chelsea, AL 35043 | City Hall, 11611 Chelsea Road, Chelsea, AL 35043 | http://www.msc.fema.gov/lomc | Oct. 27, 2016 | 010432
Shelby | Unincorporated areas of Shelby County (16-04-3295P) | The Honorable Rick Shepherd, Chairman, Shelby County Commission, 200 West College Street, Columbiana, AL 35051 | Shelby County Engineering Department, 506 Highway 70, Columbiana, AL 35051 | http://www.msc.fema.gov/lomc | Oct. 27, 2016 | 010191
Arkansas:
Pulaski | City of North Little Rock (16-06-2901X) | The Honorable Joe Smith, Mayor, City of North Little Rock, P.O. Box 5757, North Little Rock, AR 72119 | Planning Department, 500 West 13th Street, North Little Rock, AR 72114 | http://www.msc.fema.gov/lomc | Oct. 19, 2016 | 050182
Pulaski | City of Sherwood (16-06-2901X) | The Honorable Virginia Hillman Young, Mayor, City of Sherwood, P.O. Box 6256, Sherwood, AR 72124 | Engineering, Permit and Planning Department, 2199 East Kiehl Avenue, Sherwood, AR 72124 | http://www.msc.fema.gov/lomc | Oct. 19, 2016 | 050235
Sebastian | City of Fort Smith (15-06-0085P) | Mr. Jeff Dingman, Acting Administrator, City of Fort Smith, P.O. Box 1908, Fort Smith, AR 72902 | City Hall, 623 Garrison Avenue, Fort Smith, AR 72901 | http://www.msc.fema.gov/lomc | Oct. 6, 2016 | 055013
Colorado:
El Paso | City of Colorado Springs (16-08-0119P) | The Honorable John Suthers, Mayor, City of Colorado Springs, 30 South Nevada Avenue, Colorado Springs, CO 80903 | Regional Building Department, 2880 International Circle, Colorado Springs, CO 80910 | http://www.msc.fema.gov/lomc | Oct. 27, 2016 | 080060
El Paso | Unincorporated areas of El Paso County (16-08-0119P) | The Honorable Darryl Glenn, Chairman, El Paso County Board of Commissioners, 200 South Cascade Avenue, Suite 100, Colorado Springs, CO 80903 | El Paso County Regional Building Department, 2880 International Circle, Colorado Springs, CO 80910 | http://www.msc.fema.gov/lomc | Oct. 27, 2016 | 080059
Jefferson | Unincorporated areas of Jefferson County (15-08-0549P) | The Honorable Libby Szabo, Chair, Jefferson County Board of Commissioners, 100 Jefferson County Parkway, Golden, CO 80419 | Jefferson County Planning and Zoning Division, 100 Jefferson County Parkway, Golden, CO 80419 | http://www.msc.fema.gov/lomc | Oct. 7, 2016 | 080087
Jefferson | Unincorporated areas of Jefferson County (15-08-1142P) | The Honorable Libby Szabo, Chair, Jefferson County Board of Commissioners, 100 Jefferson County Parkway, Golden, CO 80419 | Jefferson County Planning and Zoning Division, 100 Jefferson County Parkway, Golden, CO 80419 | http://www.msc.fema.gov/lomc | Oct. 21, 2016 | 080087
Connecticut: Middlesex | Town of Old Saybrook (16-01-0590P) | The Honorable Carl P. Fortuna, Jr., First Selectman, Town of Old Saybrook Board of Selectmen, 302 Main Street, Old Saybrook, CT 06475 | Town Hall, 302 Main Street, Old Saybrook, CT 06475 | http://www.msc.fema.gov/lomc | Oct. 7, 2016 | 090069
Florida:
Bay | Unincorporated areas of Bay County (15-04-9588P) | The Honorable Mike Nelson, Chairman, Bay County Board of Commissioners, 840 West 11th Street, Panama City, FL 32401 | Bay County Planning and Zoning Division, 840 West 11th Street, Panama City, FL 32401 | http://www.msc.fema.gov/lomc | Oct. 17, 2016 | 120004
Broward | City of Fort Lauderdale (15-04-3747P) | The Honorable John P. “Jack” Seiler, Mayor, City of Fort Lauderdale, 100 North Andrews Avenue, Fort Lauderdale, FL 33301 | Building Services Division, 700 Northwest 19th Avenue, Fort Lauderdale, FL 33311 | http://www.msc.fema.gov/lomc | Oct. 17, 2016 | 125105
Broward | City of Hallandale Beach (15-04-7116P) | The Honorable Joy F. Cooper, Mayor, City of Hallandale Beach, 400 South Federal Highway, Hallandale Beach, FL 33009 | Development Services Department, 400 South Federal Highway, Hallandale Beach, FL 33009 | http://www.msc.fema.gov/lom | Nov. 2. 2016 | 125110
Broward | City of Hollywood (15-04-7116P) | The Honorable Peter Bober, Mayor, City of Hollywood, P.O. Box 229045, Hollywood, FL 33022 | City Hall, 2600 Hollywood Boulevard, Hollywood, FL 33020 | http://www.msc.fema.gov/lom | Nov. 2. 2016 | 125113
Broward | Unincorporated areas of Broward County (15-04-3747P) | The Honorable Marty Kiar, Mayor, Broward County Board of Commissioners, 115 South Andrews Avenue, Room 417, Fort Lauderdale, FL 33301 | Broward County Environmental Licensing and Building Permitting Division, 1 North University Drive, Plantation, FL 33324 | http://www.msc.fema.gov/lom | Oct. 17, 2016 | 125093
Collier | City of Marco Island (16-04-2785P) | The Honorable Bob Brown, Chairman, City of Marco Island Council, 50 Bald Eagle Drive, Marco Island, FL 34145 | City Hall, 50 Bald Eagle Drive, Marco Island, FL 34145 | http://www.msc.fema.gov/lom | Oct. 7, 2016 | 120426
Escambia | Pensacola Beach-Santa Rosa Island Authority (16-04-4004P) | The Honorable Dave Pavlock, Chairman, Santa Rosa Island Authority Board, P.O. Drawer 1208, Pensacola Beach, FL 32562 | City Hall, 1 Via de Luna, Pensacola Beach, FL 32561 | http://www.msc.fema.gov/lom | Oct. 25, 2016 | 125138
Lee | City of Sanibel (15-04-9705P) | The Honorable Kevin Ruane, Mayor, City of Sanibel, 800 Dunlop Road, Sanibel, FL 33957 | Building Department, 800 Dunlop Road, Sanibel, FL 33957 | http://www.msc.fema.gov/lom | Oct. 17, 2016 | 120402
Pinellas | City of St. Petersburg (16-04-4003P) | The Honorable Rick Kriseman, Mayor, City of St. Petersburg, 175 5th Street North, St. Petersburg, FL 33701 | Municipal Services Center, Permit Division, 1 4th Street North, St. Petersburg, FL 33701 | http://www.msc.fema.gov/lom | Oct. 25, 2016 | 125148
Polk | Unincorporated areas of Polk County (16-04-1134P) | The Honorable John E. Hall, Chairman, Polk County Board of Commissioners, P.O. Box 9005, Bartow, FL 33831 | Polk County Land Development Division, 330 West Church Street, Bartow, FL 33831 | http://www.msc.fema.gov/lom | Oct. 27, 2016 | 120261
Volusia | City of DeBary (16-04-4470P) | The Honorable Clint Johnson, Mayor, City of DeBary, 16 Colomba Road, DeBary, FL 32713 | City Hall, 16 Colomba Road, DeBary, FL 32713 | http://www.msc.fema.gov/lom | Oct. 5, 2016 | 130322
Georgia:
Gwinnett | Unincorporated areas of Gwinnett County (16-04-2468P) | The Honorable Charlotte J. Nash, Chair, Gwinnett County Board of Commissioners, 75 Langley Drive, Lawrenceville, GA 30046 | Gwinnett County Stormwater Management Division, 684 Winder Highway, Lawrenceville, GA 30045 | http://www.msc.fema.gov/lom | Oct. 11, 2016 | 130322
Lee | City of Leesburg (16-04-3621P) | The Honorable Jim Quinn, Mayor, City of Leesburg, P.O. Box 890, Leesburg, GA 31763 | City Hall, 107 Walnut Avenue South, Leesburg, GA 31763 | http://www.msc.fema.gov/lom | Oct. 13, 2016 | 130348
Lee | Unincorporated areas of Lee County (16-04-3621P) | The Honorable Rick Muggridge, Chairman, Lee County Board of Commissioners, 110 Starksville Avenue North, Leesburg, GA 31763 | Lee County Administration Building, 110 Starksville Avenue North, Leesburg, GA 31763 | http://www.msc.fema.gov/lom | Oct. 13, 2016 | 130122
Massachusetts:
Barnstable | Town of Dennis (16-01-0605P) | The Honorable Paul McCormick, Chairman, Town of Dennis Board of Selectmen, P.O. Box 2060, South Dennis, MA 02660 | Town Hall, 685 Route 134, South Dennis, MA 02660 | http://www.msc.fema.gov/lom | Sep. 16, 2016 | 250005
Norfolk | Town of Weymouth (15-01-2574P) | The Honorable Robert L. Hedlund, Mayor, Town of Weymouth, 75 Middle Street, Weymouth, MA 02189 | City Hall, 75 Middle Street, Weymouth, MA 02189 | http://www.msc.fema.gov/lom | Sep. 29, 2016 | 250257
Worcester | City of Fitchburg (15-01-2126P) | The Honorable Stephen L. DiNatale, Mayor, City of Fitchburg, 166 Boulder Drive, Suite 108, Fitchburg, MA 01420 | Community Development Department, Planning Division, 301 Broad Street, Fitchburg, MA 01420 | http://www.msc.fema.gov/lom | Oct. 6, 2016 | 250304
Worcester | City of Leominster (15-01-2126P) | The Honorable Dean J. Mazzarella, Mayor, City of Leominster, 25 West Street, Leominster, MA 01453 | Office of Emergency Management, 37 Carter Street, Leominster, MA 01453 | http://www.msc.fema.gov/lom | Oct. 6, 2016 | 250314
Montana: Butte-Silver Bow | Unincorporated areas of Butte-Silver Bow County (15-08-1320P) | The Honorable Matthew Vincent, Chief Executive, Butte-Silver Bow County, 155 West Granite Street, Butte, MT 59701 | Butte-Silver Bow Planning Department, 155 West Granite Street, Butte, MT 59701 | http://www.msc.fema.gov/lom | Oct. 25, 2016 | 300077
North Carolina: Alamance | City of Burlington (16-04-0421P) | The Honorable Ian Baltutis, Mayor, City of Burlington, P.O. Box 1358, Burlington, NC 27216 | Municipal Building, 425 South Lexington Avenue, Burlington, NC 27215 | http://www.msc.fema.gov/lom | Nov. 7. 2016 | 370002
Rhode Island: Kent | Town of Coventry (16-01-1501P) | Mr. Graham Waters, Manager, Town of Coventry, 1670 Flat River Road, Coventry, RI 02816 | Planning and Zoning Department, 1670 Flat River Road, Coventry, RI 02816 | http://www.msc.fema.gov/lom | Oct. 31, 2016 | 440004
South Carolina: Horry | City of Myrtle Beach (16-04-2072P) | The Honorable John T. Rhodes, Mayor, City of Myrtle Beach, P.O. Box 2468, Myrtle Beach, SC 29577 | Construction Services Department, 921 North Oak Street, Myrtle Beach, SC 29577 | http://www.msc.fema.gov/lom | Sep. 26, 2016 | 450109
Tennessee: Williamson | City of Franklin (15-04-8778P) | The Honorable Ken Moore, Mayor, City of Franklin, 109 3rd Avenue South, Franklin, TN 37064 | City Hall, 109 3rd Avenue South, Franklin, TN 37064 | http://www.msc.fema.gov/lom | Sep. 30, 2016 | 470206
Texas:
Collin | City of Allen (16-06-2118P) | The Honorable Stephen Terrell, Mayor, City of Allen, 305 Century Parkway, Allen, TX 75013 | Engineering Department, 305 Century Parkway, Allen, TX 75013 | http://www.msc.fema.gov/lom | Nov. 4, 2016 | 480131
Collin | City of McKinney (16-06-0922P) | The Honorable Brian Loughmiller, Mayor, City of McKinney, P.O. Box 517, McKinney, TX 75070 | City Hall, 221 North Tennessee Street, McKinney, TX 75069 | http://www.msc.fema.gov/lom | Oct. 10, 2016 | 480135
Collin | City of Melissa (16-06-0922P) | Mr. Jason Little, Manager, City of Melissa, 3411 Barker Avenue, Melissa, TX 75454 | City Hall, 3411 Barker Avenue, Melissa, TX 75454 | http://www.msc.fema.gov/lom | Oct. 10, 2016 | 481626
Collin | City of Plano (16-06-0669P) | The Honorable Harry LaRosiliere, Mayor, City of Plano, P.O. Box 860358, Plano, TX 75074 | City Hall, 1520 K Avenue, Plano, TX 75074 | http://www.msc.fema.gov/lom | Oct. 14, 2016 | 480140
Collin | Unincorporated areas of Collin County (16-06-0922P) | The Honorable Keith Self, Collin County Judge, 2300 Bloomdale Road, Suite 4192, McKinney, TX 75071 | Collin County Engineering Department, 4690 Community Avenue, Suite 200, McKinney, TX 75071 | http://www.msc.fema.gov/lom | Oct. 10, 2016 | 480130
Dallas | City of Garland (14-06-4283P) | The Honorable Douglas Athas, Mayor, City of Garland, 200 North 5th Street, Garland, TX 75040 | Municipal Building, 800 Main Street, Garland, TX 75040 | http://www.msc.fema.gov/lom | Oct. 24, 2016 | 485471
Dallas | City of Richardson (14-06-4283P) | The Honorable Paul Voelker, Mayor, City of Richardson, P.O. Box 830309, Richardson, TX 75080 | City Hall, 411 West Arapaho Road, Richardson, TX 75080 | http://www.msc.fema.gov/lom | Oct. 24, 2016 | 480184
Dallas | City of Sachse (16-06-0772P) | The Honorable Mike Felix, Mayor, City of Sachse, 3815 Sachse Road, Building B, Sachse, TX 75048 | Public Works Department, 3815-B Sachse Road, Sachse, TX 75048 | http://www.msc.fema.gov/lom | Oct. 21, 2016 | 480186
Fort Bend | Unincorporated areas of Fort Bend County (16-06-1116P) | The Honorable Robert Hebert, Fort Bend County Judge, 401 Jackson Street, Richmond, TX 77469 | Fort Bend County Engineering Department, 301 Jackson Street, Richmond, TX 77469 | http://www.msc.fema.gov/lom | Oct. 17, 2016 | 480228
Harris | City of Baytown (16-06-0437P) | The Honorable Stephen DonCarlos, Mayor, City of Baytown, P.O. Box 424, Baytown, TX 77522 | City Hall, 2401 Market Street, Baytown, TX 77520 | http://www.msc.fema.gov/lom | Oct. 28, 2016 | 485456
Harris | City of Houston (16-06-0527P) | The Honorable Sylvester Turner, Mayor, City of Houston, P.O. Box 1562, Houston, TX 77251 | Floodplain Management Department, 1002 Washington Avenue, 3rd Floor, Houston, TX 77002 | http://www.msc.fema.gov/lom | Nov. 4, 2016 | 480296
Harris | Unincorporated areas of Harris County (16-06-0437P) | The Honorable Edward M. Emmett, Harris County Judge, 1001 Preston Street, Suite 911, Houston, TX 77002 | Harris County Permit Office, 10555 Northwest Freeway, Suite 120, Houston, TX 77092 | http://www.msc.fema.gov/lom | Oct. 28, 2016 | 480287
Harris | Unincorporated areas of Harris County (16-06-0527P) | The Honorable Edward M. Emmett, Harris County Judge, 1001 Preston Street, Suite 911, Houston, TX 77002 | Harris County Permit Office, 10555 Northwest Freeway, Suite 120, Houston, TX 77092 | http://www.msc.fema.gov/lom | Nov. 4, 2016 | 480287
Harris | Unincorporated areas of Harris County (16-06-0557P) | The Honorable Edward M. Emmett, Harris County Judge, 1001 Preston Street, Suite 911, Houston, TX 77002 | Harris County Permit Office, 10555 Northwest Freeway, Suite 120, Houston, TX 77092 | http://www.msc.fema.gov/lom | Nov. 4, 2016 | 480287
Kendall | Unincorporated areas of Kendall County (16-06-0702P) | The Honorable Darrel L. Lux, Kendall County Judge, 201 East San Antonio Avenue, Suite 122, Boerne, TX 78006 | Kendall County Engineering Department, 201 East San Antonio Avenue, Suite 101, Boerne, TX 78006 | http://www.msc.fema.gov/lom | Oct. 5, 2016 | 480417
Tarrant | City of Mansfield (16-06-0957P) | The Honorable David L. Cook, Mayor, City of Mansfield, 1200 East Broad Street, Mansfield, TX 76063 | City Hall, 1200 East Broad Street, Mansfield, TX 76063 | http://www.msc.fema.gov/lom | Oct. 20, 2016 | 480606
Williamson | Unincorporated areas of Williamson County (16-06-0303P) | The Honorable Dan A. Gattis, Williamson County Judge, 710 South Main Street, Suite 101, Georgetown, TX 78626 | Williamson County Engineering Department, 3151 Southeast Inner Loop, Suite B, Georgetown, TX 78626 | http://www.msc.fema.gov/lom | Oct. 27, 2016 | 481079
Wise | City of Boyd (16-06-1325P) | The Honorable Rodney Scroggins, Mayor, City of Boyd, 100 East Rock Island Avenue, Boyd, TX 76023 | City Hall, 100 East Rock Island Avenue, Boyd, TX 76023 | http://www.msc.fema.gov/lom | Oct. 27, 2016 | 480676
Utah:
Salt Lake | Town of Herriman (16-08-0214P) | The Honorable Carmen Freeman, Mayor, Town of Herriman, 13011 South Pioneer Street, Herriman, UT 84096 | Town Hall, 13011 South Pioneer Street, Herriman, UT 84096 | http://www.msc.fema.gov/lom | Oct. 12, 2016 | 490252
Tooele | City of Tooele (16-08-0138P) | The Honorable Patrick Dunlavy, Mayor, City of Tooele, 90 North Main Street, Tooele, UT 84074 | Town Hall, 90 North Main Street, Tooele, UT 84074 | http://www.msc.fema.gov/lom | Sep. 28, 2016 | 490145
Virginia: Prince William | Unincorporated areas of Prince William. County (16-03-0170P) | Mr. Christopher E. Martino, Acting Prince William County Executive, 1 County Complex Court, Prince William, VA 22192 | Prince William County Department of Public Works, 5 County Complex Court, Prince William, VA 22192 | http://www.msc.fema.gov/lom | Oct. 6, 2016 | 510119
Washington, DC | District of Columbia (15-03-2388P) | The Honorable Muriel Bowser, Mayor, District of Columbia, 1350 Pennsylvania Avenue Northwest, Washington, DC 20004 | Department of Energy and Environmental Services, 1200 1st Street Northeast, Washington, DC 20002 | http://www.msc.fema.gov/lom | Sep. 14, 2016 | 110001
West Virginia:
Harrison | City of Bridgeport (15-03-0999P) | The Honorable Robert Greer, Mayor, City of Bridgeport, 515 West Main Street, Bridgeport, WV 26330 | Engineering Department, 515 West Main Street, Bridgeport, WV 26330 | http://www.msc.fema.gov/lom | Oct. 11, 2016 | 540055
Harrison | Unincorporated areas of Harrison County (15-03-0999P) | The Honorable Ronald Watson, President, Harrison County Commission, 301 West Main Street, Clarksburg, WV 26301 | Harrison County Planning Department, 301 West Main Street, Clarksburg, WV 26301 | http://www.msc.fema.gov/lom | Oct. 11, 2016 | 540053
Mingo | Town of Matewan (16-03-1666P) | The Honorable Sheila Kessler, Mayor, Town of Matewan, P.O. Box 306, Matewan, WV 25678 | Mingo County Floodplain Coordinator's Office, 78 East 2nd Avenue, Room B200, Williamson, WV 25661 | http://www.msc.fema.gov/lom | Oct. 31, 2016 | 545538
Mingo | Unincorporated areas of Mingo County (16-03-1666P) | The Honorable John Mark Hubbard, President, Mingo County Commission, 75 East 2nd Avenue, Room 308, Williamson, WV 25661 | Mingo County Floodplain Coordinator's Office, 78 East 2nd Avenue, Room B200, Williamson, WV 25661 | http://www.msc.fema.gov/lom | Oct. 31, 2016 | 540133

[FR Doc. 2016-22784 Filed 9-21-16; 8:45 am]

BILLING CODE 9110-12-P